DEPARTMENT OF ENERGY

Federal Energy Regulatory Commission

[Docket No. CP06-385-001]

Western Gas Resources, Inc., and Pioneer Natural Resources (USA), Inc.; Notice of Amendment

April 20, 2007.

Take notice that on April 9, 2007, Pioneer Natural Resources (USA), Inc. (Pioneer), 1400 Williams Square West, 5205 North O'Connor Boulevard, Irving, Texas, filed an amendment to Western Gas Resources, Inc.'s (WGR) pending May 26, 2006 application in Docket No. CP06-385-000. By this amendment, Pioneer seeks to become a joint applicant in the petition for clarification that the Midkiff Line, located in Texas and jointly owned by WGR and Pioneer, retains its non-jurisdictional status, or, alternatively, the request, pursuant to section 7(c) of the Natural Gas Act, that the Commission issue a limited jurisdiction certificate and waive certain regulatory requirements, all as more fully set forth in the application which is on file with the Commission and open for public inspection.

This filing is accessible on-line at http://www.ferc.gov, using the “elibrary” link and is available for review in the Commission's Public Reference Room in Washington, DC. There is an “esubscription” link on the Web site that enables subscribers to receive e-mail notification when a document is added to a subscribed docket(s). For assistance with any FERC Online service, please email FERCOnlineSupport@ferc.gov, or call (866) 208-3676 (toll free). For TTY, call (202) 502-8659.

Any questions regarding this application should be directed to Mr. Jefferson Rees, Pioneer Natural Resources, 5205 North O'Connor Blvd., Suite 200, Irving, Texas 75039; or e-mail: jeff.rees@pxd.com; phone: (972) 969-4040; or fax: (972) 969-3577.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date indicated below. Anyone filing a motion to intervene or protest must serve a copy of that document on the Applicant. On or before the comment date, it is not necessary to serve motions to intervene or protests on persons other than the Applicant.

The Commission encourages electronic submission of protests and interventions in lieu of paper using the “efiling” link at http://www.ferc.gov. Persons unable to file electronically should submit an original and 14 copies of the protest or intervention to the Federal Energy Regulatory Commission, 888 First Street, NE., Washington, DC 20426.

Comment Date: May 11, 2007.

Kimberly D. Bose,
Secretary.

[FR Doc. E7-7989 Filed 4-25-07; 8:45 am]

BILLING CODE 6717-01-P